DEPARTMENT OF DEFENSE

Department of the Army; Corps of Engineers

Intent To Prepare a Draft Environmental Impact Statement (DEIS) for the Southwest Florida Feasibility Study (SWFFS)

AGENCY: U.S. Army Corps of Engineers, DoD.

ACTION: Notice of intent.

SUMMARY: The Jacksonville District, U.S. Army Corps of Engineers (Corps), intends to prepare an integrated Feasibility Report and DEIS for the Southwest Florida Feasibility Study. The study is a cooperative effort between the Corps and the South Florida Water Management District (SFWMD), which is also a cooperating agency for this DEIS. One of the recommendations of the final report of the Central & South Florida (C&SF) Comprehensive Review Study (Restudy) was the SWFFS. The SWFFS will develop a comprehensive regional plan for addressing water resource problems and opportunities in southwest Florida.

FOR FURTHER INFORMATION CONTACT: John Kremer, U.S. Army Corps of Engineers, Planning Division, Environmental Branch, P.O. Box 4970, Jacksonville, FL 32232-0019, or by telephone at 904-232-3551.

SUPPLEMENTARY INFORMATION: a. Authorization: The C&SF Project was first authorized in 1948 to provide flood control, water control, water supply, and other services to an area that stretched from Orlando to Florida Bay. Section 309(l) of the Water Resources Development Act of 1992 (Pub. L. 102-580) provided authorization for the Restudy. The Restudy concluded with an Integrated Feasibility Report and Final Programmatic Environmental Impact Statement in April 1999. Section 528 of the Water Resources Development Act of 1996 (Pub. L. 104-303) authorizes several ecosystem restoration activities recommended by the Restudy, including the SWFFS.

b. Study Area: The SWFFS area covers approximately 4,300 square miles including all of Lee County, most of Collier and Hendry Counties, and portions of Charlotte, Glades, and Monroe Counties.

c. Project Scope: The SWFFS will develop alternative plans and recommendations for structural, non-structural, and operational modifications and improvements in the region. The study will evaluate alternatives based on their ability to improve water deliveries to the estuaries, manage agricultural and urban water supplies, protect and conserve water resources, protect or restore fish and wildlife and their associated habitat, restore and manage wetland and associated upland ecosystems, sustain economic and natural resources, improve water quality, and other performance criteria being developed by the Project Delivery Team.

d. Preliminary Alternatives: Like the Restudy, the Environmental Impact Statement (EIS) will evaluate the following structural and non-structural water resource related features: surface water storage, re-establishment of overland sheet flow, aquifer storage and recovery, stormwater treatment, wastewater treatment, water conservation programs, land acquisition, rehydration of wetlands, ecosystem needs, and operational changes to water management facilities.

e. Issues: The EIS will address the following issues: restoration of estuarine, aquatic, wetland, and upland ecosystems; water flows; future agricultural, environmental, and urban water demand and supply; socio-economic resources; aquifer recharge; conversion of public conservation lands to water storage areas; water quality; impacts to the estuaries; flood protection; the impacts of land acquisition on the tax base; aesthetics and recreation; fish and wildlife resources, including protected species; cultural resources; and other impacts identified through scoping, public involvement, and interagency coordination.

f. Scoping: In July 2000, the Corps and SFWMD conducted the first round of public meetings with stakeholders, agencies, and other members of the public to gather technical input and documentation identifying the water resources problems, needs, and opportunities of southwest Florida. The second round of public meetings occurred in October 2000, to clarify and refine the issues brought up in the first round of meetings, and discuss the draft Project Management Plan (PMP).

A third round of meetings, scheduled to occur in February 2002, will provide an opportunity for public and agency input in response to this Notice. The meetings will discuss the feasibility phase of the study, including the National Environmental Policy Act (NEPA) process, and further gather public input. Other public meetings will be held over the course of the study; the exact location, dates, and times will be announced in public notices and local newspapers. We invite the participation of affected Federal, state and local agencies, affected Indian tribes, and other interested private organizations and parties.

g. DEIS Preparation: The integrated Feasibility Report, including a DEIS, is currently scheduled for publication in June 2005.

Dated: January 7, 2002.
James C. Duck,
Chief, Planning Division.

[FR Doc. 02-1641 Filed 1-22-02; 8:45 am]

BILLING CODE 3710-AJ-M